DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2017. For purposes of this listing, long-term residents, as defined in section 877(e)(2), are treated as if they were citizens of the United States who lost citizenship.

Last name | First name | Middle name/initials
ABA | PHILIPPE | CHRISTIAN
ABE | HIROMI
ABOITIZ | EDUARDO | ALFRED
ABOITIZ | JUAN | IGNACIO
ABRAHAM | MICHAEL
ABRAHAM | ROBERT | HARRY
ABRAM | BRETT | THOMAS
ACCONCIA | OLEG | NICOLA
ACHARYA | BALCHANDRA
ADCOCK | CHERYL | ANN
ADELSKI | ROBERT | BORIS
AGARWAL | MADHURIE | SURENDRA
AGGARWAL | VINOD
AHARONOFF | EYAL | AVISHAI
AHLBERG | FREDRIK | STEN KONRAD
AHRWEILER | JUDY | MARIE
AIZEN | EDWARD
AIZEN | RACHEL | LENA
AL MOUSA | EBTISAM | ADNAN
AL WAZZAN | LUJAIN | SALAH
ALANSARI | BADER | EISSA
AL-ANZI | ABDULAZIZ | AL-AHMAD
ALBURY | JAMES | CHRISTOPHER
ALHADEFF | ROBERT | JACOB MACKLEY
ALHADEFF | SOLANGE | YONA
ALLET | NATACHA
ALLIE | AMIR
ALMANSOORI | AHMED | ALI
AL-MAZEEDI | MUHAMMAD | K.
ALMOALLIM | ANAN | MAZIN
ALONTO | ADNAN | VILLALUNA
ALPERT | ELIZABETH | DAWN
ALPERT | FRANK | HOWARD
ALQASIM | SARA | MOHAMMED
AL-QASIMI | NORA | MOHAMMED
ALQASSIMI | OMAR | HANIF
ALSABAH | MANSOUR | AHMAD
AL-ZANKI | MOHAMMAD | NAJEEB
AMADOR | RAUL | FRANCISCO
AMBLE | MATTHIAS | PETER PLATOU
AMIJO | CARRIEANNA | KRISTINA
AMSTADT | ALBERT | JOSEPH
AMUNDRUD | PATRICIA | ANN
AN | JOO | YEON
ANDERSON | ERIK | THOMAS
ANDERSON | MARQUETTE | JOHN
ANDREWS | CHERYL | COLLEEN
ARNAUD | BEATRICE | de THE
ARNETZ | LISA | FAYE JULIA
ARNTZ | DIETRICH | H.
ARORA | SIDDHARTHA
ARQUISCH | KARIN | MARAGRET
ARSENAULT | CHRIS | VITAL
ASAKURA | KOO | MAURITIS
ASP | KARL | ANDREW
ATCHESON | WANDA | KAY
ATKIN | MATTHEW | RYAN
AUSTIN | MICHAEL | ARTHUR
AVERSA | FRANK | GENE
AVERY | WILLIAM | BLAKE
BABEL | CINDY | GARIELLE
BACOS | NILS | RICHARD
BAE | ANDREA | JUNG WOO
BAILEY | DEBORAH | LEE
BALESTRI | JOHN | ANTHONY
BALIMANN | RAPHAEL | FREDERIK
BALL | EVELYN | LOUISE
BALLMER | STEVEN
BALON | THOMAS | DAVID
BANTIS | APOSTOLOS
BARAK | MOSHE | YONATAN
BARAKAT | WALEED | ABDEL
BARBEY | KELLOG | GRIGGS
BARBEY | LUCAS-PIERRE | HENRICHS
BARGOUD | CHARLOTTE | RAOUF
BARKAY | RIVKA
BARNETT | DOUGLAS | ELLIOTT
BARRATT-BOYES | JOHN | NORMAN
BARRETT-GUBELMANN | PATRICIA
BARRIENTOS | JOSE | MAURICIO LANDAVERDE
BASTIN | NADIANE | THERESE ANNE
BAUMANN | MARC | PATRICK
BAYES | RYAN | MICHAEL
BEALY | JOANNE | MARIE
BEAUCHEMIN | DION | EDWARD HENDRIK
BECHER | WILLIAM | EDWARD
BECK | JAMES | ERIC
BECKER | LUKE | ADRIAN WEBER
BEDDOME | JACQUELINE | LOUISE
BEDOYA | EMILIO
BEGOUGNE de JUNIAC | ALEXANDRA | K.A.
BELISLE | MARY | SUZANNE
BENN | SUSAN | ELIZABETH
BERARDI | DONATELLA | MARISA
BERARDI | GIOVANNI | MARINO
BERGENGREN | MARIA | CHRISTINE
BERGER | NADJA
BERGH | JOHN | LEWIS
BERGLAR | MARTIN | ANTHONY
BERGLUND | CLARENCE | INGVAR OLOF
BERKLEY | ALEXANDER | WILLIAM CHARLES
BERR | THEODOR | BRIAN
BERRIDGE | JULIA | ANNE FRANCES
BERT | BRUNO | LUCIEN FRANCOIS
BESSON | MICHELE | NADIA
BHAT | SUSHEELA | SHAMA
BHATIA | CHAITNYA | GULABSI
BIALIK | TAMAR | CHAVA
BIBEAU | FRANCIS | ALEXANDRE
BIBEAU | KARINE | EMMANUELLE
BIBEAU | YANNICK | THIERRY
BIELSKI | JERRY
BISHOP | TARRINA | JEAN
BITTING | SETH | SIMON
BLACK | MARIAN | ROSE
BLAIR | CYNTHIA | LYN
BLOM | MARGARET | ALICE
BOBERG | EVA | MARIA
BOBOWSKI | MELANIE | REBECCA
BOBYK | ARWEN | GANESSA WIDMER
BOCCHINO | ROBERTO
BOEHMER | PATRICIA | GOERKE
BOILLIN | BRUNO | LUC-MICHEL
BOJDUJ | BRETT | NICHOLAS
BOLINDER | ANDERS | GUNNAR
BONI | PATRICK | CHRISTOPHER
BOONBANJERDSRI | KOBI
BOOTH | JOANNA | TEN BOS
BORELLA | LORENZO
BORNEMANN | REBECCAH | ANNE
BOROVITZ | ZVI
BORROWMAN | ROBERT | DOWSON
BORST | JOHANNA | MARIA
BOTHWELL | CHRISTOPHER | MARTIN FLEMING
BOTTOLI | IVAN | LUIGI CLETO
BOURDEAUX | JACQUELINE | JEANNE
BOWEN | ALAN | C.
BOYLE | DIANE | LYNN
BRACKMAN | COLIN | JASON
BRADLEY | LINDA | JANE
BRADY | TARA | MARY ELIZABETH
BRANCHEY | ALAIN | PAUL ROBERT
BRANDINU-NICHOLSON | SHERRY | SUE
BRECHET | MONIQUE | CATHERINE
BREMAUD | REBECCA | HAZEL
BRETSCHER | SIMONE | ANDREA
BRIDEAU | FRANCIS | ALEXANDER HAIG
BROPHY | BRIAN | FRANCIS
BROWN | BRENDA | KAY
BROWN | EUGENE
BROWN | JARED | MCDANIEL
BROWN | MATTHEW | DUNCAN
BRUHAM | LIAM | ROBERT
BRUMFIELD | DANIEL | RAYMOND
BRUMWELL | MARY | LYNN
BRUNBERG | FREDRIK | CARL
BRUNO | JULIE | TINA
BUBEL | JENNIFER | ELLEN
BUCKLEY | SUSAN | TAFT
BUECHEL | MICHAEL | MORRIS
BULLER | KIMBERLEY | ANNE
BURCKHARDT WETTSTEIN | CLAUDIA | R.E.
BURGISSER | THOMAS | FRANK
BURKE | MICHAEL | ALLAN
BUTTERWORTH | WILLIAM | NEAL
CAGIATI | ANTHONY | HARE
CANTIENI-BRUNNER | NINA | JOY WHITNEY
CARLEY | CATHLYN | MARY
CARLMAN | NANCY | JANE
CARLSON | MICHAEL | ALAN
CARVALHO | SEBASITIAO | GUIMARAES
CASE | VANESSA | HOPE
CATALDO | SYLVIE | CLAUDE MARIE
CAVIER | MAIKE | CHRISTINE
CHABOT | RICHARD | ROYOLA
CHAI | MIN | JI
CHAM | LIBERTY | JANE TIU
CHAMBERS | CARL-JOHAN | MARTIN NORMAN
CHAMBERS | JULIA | KATARINA ELISABETH
CHAN | ISABELLE | WEY YEN
CHAN | KELVIN | KA KWUN
CHAN | PURDY | YING-TING
CHAN | RITA | YUK YEE LEE
CHANARAT | PAHT
CHANG | LIANG | HWA
CHAPLIN | KATHLEEN | ELSIE
CHAPLIN | RONALD | KENNETH
CHAPMAN | SARAH | AMANDA
CHARLES-FREEMAN | PATRECE | PEARNELLA
CHAUMONT | DOMINQUE | CLAIRE
CHEETHAM | LOUISA | FINES
CHEETI | SEETHA
CHEN | ANDY
CHEN | CAROLINE | LIN
CHEN | YIQIANG
CHEN | ZHUMING
CHENG | CHRISTINE | LYN
CHENG | HUNG | JU
CHENG | JENCHIA | DAVID
CHERLAND | ESTHER | ELIZABETH
CHEUNG | LEE | NO
CHEUNG | STEFANI | LI LIN
CHEW | ABIGAIL | RONG-AI
CHIEMCHANYA | PAISID
CHIEMCHANYA | PORNWADEE
CHILUVURI | PRAMILA
CHIN | XIXI | TAN
CHIU | JASON | YUTAI
CHOI | REGINA
CHOKSI | GAURAV | ABHAY
CHONG | STEPHANIE | MEI-YAN
CHOW | DONNA | MARIE
CHOW | JESSICA | CHUNG WAH
CHOW | KEVIN | CHUNG YUAN
CHRISTEN | THIERRY | JEAN-REMY HARPER
CHU | HOWARD
CHU | MICHAEL
CHUANG | SHANG-YAN
CHURCHHOUSE | VERONICA | JEAN SYMONS
CLANCY | PATRICIA | ANN
CLARK | AIDAN | WILLIAM
CLARK | HANNAH | JEAN
CLOSSEY | LUKE | SEAN
COBITZ | ANTHONY | LOUIS
COHEN-HERRENDORF | KASONDRA
COLETTI | VEGLIA | ANGELA OLYMPIA
COLLAND | VIVIAN | THERESE
COLTER | JAYME | ELLEN
CONRADI | PETER | CHRISTIAN
CONSTABLE | MELISSA | AMANDA
CONYERS | HAROLD
COOK | BENJAMIN | DOUGLAS
COOK | RANDALL | WILLIAM
COOKE | CATHERINE | ALISON
COOLEY | BRYAN | ELLIOT
COOMBS | AUGUST | TRAHMS
COOMER | ERIN | ELIZABETH
COOPER | SUSANA | CHEUNG
CORNELSEN | DALE | KELLY
COSTA | THEODORE
COSTELLO | ANDREA | TEANINI RUSTAD
COSTELLO | ANTHONY | RAY KAIAMA
COSTELLO | EMILY | MOANA THERESA
COVINGTON | COLINE | ELIZABETH
COWLEY | JENNIFER | SUE
CRAFT | DANA | ELIZABETH
CRANDALL | GREGORY | LYNN
CROSETTI | CHRISTINE | SYLVIA
CROSS | TIMOTHY | ANDREW
CROSSEN | LUKE | SCOTT JAMES
CULLEY | CATHERINE | ELIZABETH
CUTLER | LAURA | ELISABETH BUTTERFIELD
DAGMAR-HENRIOD | MICHELE
DAHER | AUMERIC | WILLIAM
DALLHOFF | SUSAN | MARION
DANIELS | EDWARD | PAUL
DANIELSSON | EVA | MARIA
DANTHINE | ERIC | ALEXANDRE
D'ANTONIO | ANTONIO
DARAKANANDA | CHUTINDHON
DARGAY | JOYCE | MARY
DAVENPORT | CAITLIN | RUTH
DAVERIO | JULIE | JOAN
DAVIS | ELLEN | BARBARA
DAVIS | GAVIN | STEWART
DAVIS | MARCIA | JEAN
DAY | SUSAN | MARIE
DE ARRIZABALAGA | LEONARDO
DE BRUYN | LUCIA | JOAN
DE COMASEMA | SANTIAGO | EDUARDO GIBERT PALOU
DE KEYSER | ELINE | GHISLAINE FREDERIQUE
DE LA BARRE DE NANTEUIL | FLORIAN
de LA GUARDIA | JORGE | EDUARDO
DE LEEUW | JULIA | FREDERIQUE
DE LEEUW, JR | JAN | HENDRIK
DE LEVAL | FABIENNE | JENNIFER
DE LISLE II | WILLIAM | FREDERICK
DE MAREDSOUS | ALBAN | M.B.G. DESCLEE
DE PIANTE | VINCENT | JOSEPH
DE RIBES | EDOUARD | JEAN MARIE
DE SARRIERA | ALEJANDRO
de TOMBE-GROOTENHUIS | MARJORIE
DEL PUERTO | SANTIAGO | OSCAR
DELGADO | SEBASTIAN | R.
DELL'OCA | MELANIE | JOYCE
DEMEULLENAERE | CHRISTOPHE | MAURICE
DEMUTH | EVELYN | KAREN
DENGIN | GEORGE | BORIS
DENISON | KATIE | MARIE
DENYER | WILLIAM | EARL
deREGT | NICOLAS | JOHN JOHN
DeSILVIA | CECILIA
DESROCHES | JANET
DESTERKE | MARTHA | MARIE
DESTREBECQ | OLIVIER
DETOMA | EDOARDO
DEVAUD | DENIS | ALBERT
DEVINS nee: COPLAND | KATHERINE | COPLAND
DEVLIN | RACHAEL | DOROTHY
DEVOOGHT | PHILIPPE
DI CARLO TURCHI | INES
DINGER | TILO | LOUIS
DISCO | CORNELIS
DIVORNE | MICHEL | ANDRE
DIXON | ROBERT | EUGEN
DOBBY | CHRISTINE | GAIL
DODDS | THOMAS | HAROLD HILTON
DOE | EDWARD | ROSS
DOESSANT | CELINE | MARIE BRUCKER
DOHERTY | JEROME | ROBERT
DONATH | MICHAEL
DOUGLAS | BONNIE | ELIZABETH
DOYLE | VICTORIA | EARLGRACE
DRAHEIM | CURTIS | STEVEN
DRAPS | WILLEM | LOUIS
DROUX | EMILIENNE
DUCCINI | KATHLEEN | ANN
DUCHESNE | GUILLAUME | GEORGES AUGUSTES
DUENAS | SYLVIA | MARIA
DUFF | BRUCE | G.
DUGGAN | DANIEL | EDMUND
DUNCAN | JESSICA | LORRIANE
DUNCAN | LAUREN | ARDEN
DUTERRIER | DARLENE | HARRIET
DUTTON | DIANE | JACQUELINE
DZIALLAS | ULRIKE
EBELING | TIMOTHY | ROGER
EDWARDS | ANNEMARIE | ALICE
EICHER | MATTHEW | EVAN
EICHER | TINA | BARBARA
EIRIKSON | MICHAEL | PAUL
EISENMAN | ADAM
EKMAN | ELON | VIKTOR
ELIASSON | GRETA | LINNEA
ELNAGGER | AHMED
ELTERMAN | GAVIN | SELWYN
ELTERMAN | SANDRA | LEIGH
ENGELBRECHT | LINDA | MARIA
ENGESTROM | ULF
ENGLANDER | MICHAEL | CHARLES
ENGLISH | TERESA | MARY
ENNIS | SEAN | FORREST
ERGIN | JOLANTA | WIESLAWA
ERICSON | JONAS | BENGT JOEL
ERICSSON | ANDREA | LINNEA
ERICSSON | GAIL | FELTON
ESMIEU | QUENTIN-JEREMIE | EMMANUEL
ESSAR | CRESSIDA | TAMSIN
EVIATAR | JUDY
EYLES | CHRISTOPHER | DAVID
FABER-CASTELL | SARAH | ANNE VON
FAEN | BETSY | ELLEN
FANG | KEVIN | MU WEN
FARDA | ROBERT | SEBASTIAN
FARSHAD TABRIZI | MAZDA
FEIFEL | MARCO | FRANK ROLAND
FELD | KNUD
FELTON | GAIL | JO-ANNE
FENYO | JEFFREY | RANDOLPH
FERGUSON | PETER | MAURER
FERLAND | DANIELLE | ANNETTE
FERNE | DOROTHY | ANNE
FERRY-FRAU | ELLEN
FINKELSTEIN | GIDEON | R.
FINKLESTEIN | LAURA | GLADYS
FINLAY | DANA | ELIZABETH
FINLAYSON | IAN | FRAZER
FINLAYSON | MARLENE | JENNIFER
FLETCHER | ROBERT | TARO
FLORE | HANS | LOUIS
FORD | LINDSAY | MARION
FORTUNA | RONALD | DAVID
FORWARD | JAYNE | ELIZABETH
FOSTER | NANCY | PATRICIA
FOYLE | COLIN | STEPHEN
FOYLE | JULIA | CLARE
FRAUTSCHY | DAVID | JUAN
FREER | ALETA | MARGARET
FRICK | PATRICIA | JILL
FRIED | PAMELA | JOY
FRIEDMAN | KENNETH | SCOTT
FRIEND | ANTHONY | R.
FROMBERG-VAN STOLK | CAROLYN
FROSSARD | JADE | SEVERINE
FUAD | TURONNY
FUJIMORI | SETSUKO
FUJIMORI | SHINICHIRO
FUJIWARA | YASUHITO
FUKUSHIGE | KAZUKI
FULLONE-MARIANCHUK | KYTEN | DOUGLAS
FUMAGALLI | ALICE | MARIE ISABELLE
FUNG | JASON | S.
GADELIUS | DANIEL | KNUT
GADMAN | LESLIE | JOHN
GALARRAGA | CARLOS
GALLAGHER | REBECCA | MARGARET
GALUZZI | ESTEBAN | LUIS
GAMBLE nee MINSHALL | ELIZABETH | ANN
GAN | JASMINE | TAN
GAN | RAMAT
GANDINO | GILBERTO | REMO
GANEK | DAVID
GARCIA | JOSE
GARCIA | MICHAEL | STEPHEN
GARCIA-BACHMANN | KATIA
GARLOW II | JOHN | RICHARD
GASSER | CHRISTOPHE | MARK
GAUDINO | ARIEL | JOANNE ALDRICH
GEBHARDT | ELIZABETH | LOUISE
GEHRIG | SANDRA | ELISABETH
GEIGER | CHRISTIAN | COOPER
GEIJER | CHRISTOPHER | OLIVER BYE
GEIJER | SOPHIE | CATHRINE BYE
GEOGHEGAN nee: GREENTREE | CHERYL | LYNN
GERMANN | KIRDTIN
GESSMANN | RODNEY | KALANI
GEUSS | RAYMOND | FRANCIS
GHEKIERE | LOUIS-PHILIPPE | JOZEF
GIAMMARINO | MARIE | ROSE
GIBB | PATRICIA | ANNE
GIESBERT | SABINE-LAURE
GILDENHUYS | FAITH | AVERY
GILLEN | FELICIA | VIKTORIA
GILLEN | REBECCA | ELIZABETH
GILLEY | ANTHONY | EDWARD
GILMARTIN | PATRICK | CHARLES
GJERTSEN | JESSICA | MARIE
GLICK | JULIEN | HAROLD
GODFREY | GEOFFREY | ARTHUR
GODFREY | JUDITH | LOUISE
GODFREY | THOMAS | DEAN
GOGGIN | PAUL | TIMOTHY
GOLDSMITH | MARK | THOMAS
GOODMAN | CORINNA | COOPER
GORDON | MASAKO | OTSUKA
GORDON | PETER | N.
GOSSARD | ELIZABETH | MAXINE
GOTO | MUNETOSHI
GOULDING | OWEN | WILLIAM
GOURI | HERMAN
GRAHAM | DOUGLAS | STANLEY
GRAND CHAMPS | CORALIE | MARIE DE VILLERS
GREENMAN | ARIEL
GRUNINGER | MARC | EUGEN
GUERTLER JOSSI | BETTINA | MARIA
GUIDI | DOMINICA | BORGESE
GUO | TIFFANIE | HENG LING
GUO | YUQIANG
GUPTA | PRAMOD | KUMAR
GUTKIN | ILAN | CHAI
HAAS | ERIC
HACKETT | NANCY | KARIN
HAGUE | OLIVIA | CATHERINE
HALAHAN | SHONA
HALL | DARRELL | ARTHUR
HALL | MICHAEL | NIP
HALLER | FREDERIC | ZACHARY
HALSBERGHE | SOPHIE | MARY DIDIER CARINE
HAMILTON | ROBIN | DALE
HAN | DANIEL | KI YOUNG
HAN | DONG
HANRATH | MICHELE
HANRATTY | BELA | FRANCIS KOEHNE
HARDIANTO | TYAS
HARLOW | GEORGINA | CLAIRE
HARP | THOMAS | JACKIE
HARRINGTON | LISA | ANN
HARTONO | STANLEY
HAUF | BERND | RUEDIGER
HAY WEBSTER | SHARON | MERLE
HAYES | PLINY | HAROLD
HEAL | DAMIAN | JOHN
HEARD JR | CHARLES | LANGFORD
HEGBE | FREDERIC | EDEM
HEGDE | ARTI
HEIM | SUSAN | GAY LINGARD
HELDON | STUART | RYAN
HENDERSON | JULIA | CHRISTINA PATRICIU
HENEBACK | ANNA | GILLIAN COLES
HENGESBAUGH | GUY | DEAN
HEPKEMA | MAARTEN | GETTIT
HERCHENHAN | KARSTEN | DANIEL
HERMANS | BARBARA | U.
HERMANS | DIETER
HERMIDA | ERIK | PENSEEL
HERNETH | MATTHIAS | ALEXANDER
HERZOG | PATRICIA | ANNETTE
HETHERINGTON | ROBERT | WARWICK
HICKEY | BRIAN | FRANCIS
HIDEYOS | SURECH | TRICIA BELLS
HILL | SEAN | CHRISTOPHER
HILLESUM | ERNST | ROGER
HILLS | WALTER
HINGSON | SUSAN | ELIZABETH
HINRICHS | MAREN | EMILY
HIRAYAMA | ICHIRO
HITT | MARY | MARGARET
HO | CLINTON | TUNG
HO | HENRY | CHIEH-TENG
HO | WAI | NGOR CHAN
HOCH | LANCE | JEFFREY
HODGSON | PATRICK | CLIFFORD
HOFFMAN | JEANETTA | LUCILLE
HOFFMANN | HELGA
HOGAN | BARBARA | MARIE
HOLLIS | PATRICIA | AMY
HOLTERMANN | ANDREW | STUART
HOLZAPFEL | NEIL | WALTER
HONG | NATHAN | SHIAU-FUN
HOROWITZ | HOWELL | BRUCE
HOUGHTON | JENNIFER | ANNA
HOWE | RICHARD | JAMES
HOYOS | VIRGINIA | MAE BOYD
HRECHDAKIAN | PETER
HSIAO | MANSZE
HUANG | JIASHENG
HUANG | JIAXIAO | R.
HUANG | VICTOR
HUANG | VIVIAN
HUDON | LANA | M.
HUI | MAXIMILIAN
HUIJBOOM | JORAM | DANTE SEBASTIAAN
HULLIGER-DEUBELBEISS | KATHARINA | FRANZISKA
HUNG | EDWARD
HUPPI | VERNON | DAMIAN JAY
HURNAUS | DOMINIQUE
HUSAIN | FARAH | JAMIL
HUTCHISON | KATRIONA | LOUISE
HYDE | MARIAN | MARGARET
ILES | SYNITHIA | LYNN
INOUE | NOBUO
INTHURN | HEINZ | OSCAR
IP | LAURA | REN HUEY
IRWIN | IVAN | DUANE
IRWIN | KATHRYN | CRESSEY
ISBERG | MARGARET | ELLEN
ISHIKAWA | KIMIHIRO
ISHIKAWA | MARIKO
ISLER | DOMINIC
ISLER | SILVIA | INES
ISSERLES-LEACACOS | JUSTINE | CATHERINE
ISSIDORIDES | DIANE | CATHERINE
IZUTA | SAEKO
JACOBS | EITHAN
JACOBS | ELIZABETH | ANN
JAIN | VIVIEN | JOANNE
JANG | HAE | YOUNG
JANSSEN-NETO | WALTER
JANSSENS | HEIDI | ANN
JANSSENS | JEANPAUL
JANSSENS | VICKY | FAYE
JANSSENS | WILLIAM | OLAV MILES
JARVIS | KATHARINE | FRANCES
JASPERS | ALDIS | MARGARET
JENSEN | DANA | EVELYN
JESSELSON | NADAV | JOSHUA
JEWELL | RAYMOND | LAWRENCE
JOHANNESEN | MONIKA | ESTELLE
JOHANSSON` | ANDERS | ROLF EMIL
JONES | ELENA | CATERINA
JONES | IVAN | KENNETH
JONES | JANIS | JUSTIN
JONES | STEPHEN | MICHAEL
JONSSON | ARTHUR | HENRIK
JOOS | ELIZABETH | CHAPPERS
JOOS | MARINA | LUCIA
JORDAN | MARK | TIMOTHY
JOSEPH | CHRISTINE | SUSAN
JULIEN | KATHRYN | JANET
JUNG | ERIC
JUON | LAUREN
KAAR | NATASHA | ANNE
KADISHAY | RON
KADISHAY | YUVAL
KAESER | ANDREA | SANDRA
KAGEMAN | THOMAS | JAN
KALLER | KEVIN | PAUL
KAMAL | OMAR | MARWAN
KAMAYANA | JENISA | AMANDA SANDIARINI
KANG | JASON | OSWALD
KANWAR | SUMEET
KARGSTEN | HELEN | SABINE SPARTALIS
KARN | KEVIN | LEE
KATTEN | MIRIAM | REGINA
KATZ | STEPHEN | RICHARD
KAYS | ROSALIND | ANN
KEILLER | DOUGLAS | DAVID
KELLER | CATHERINE | MARGARET
KEMPNER | ROBERT | ANDERS
KENDALL | GEOFFREY | PETER
KENNEDY | AIDEN | THOMAS
KEPPER | KARTIKA | ALEXANDRA I.
KERR | RUTH | CORALIE
KETOFF | FABRICE | ALEXIS
KHAN | IRSHADULLAH
KHAN | MOHAMMAD | IBRAHIM
KILGORE | MAJA
KIM | CRYSTAL
KIM | EASUN | DONG
KIM | JUSTIN | JOONG
KIM | MI | JA
KIM | MYUNGRO
KIM | PHILIP | HANSOL
KIM | SYLVIA
KIM | YEONJU
KIMMEL | JOEL | BRYANT
KINDLUND | KARIN | ANNE
KING | ASHLEY | REBECCA
KING | GRETCHEN | CHI FEN
KING | LISA | ANN
KIRSCH | MONIQUE | MARGUERITE
KLAUSNER | DAVID | NEAL
KLEEMAN | DANIEL | CAROL
KLEINBART | AMANDA | FEDERICA
KLEINBART | EMMANUEL | SANTIAGO
KLEINBART | PAUL | MICHAEL
KLEINE | ENRST | GERARD
KNAPPE | CYNTHIA | ANN
KOCK-STRASSER | MONIKA | ADELHEID
KOESTENBERGER | EVA
KOK | BIRGITTE | ELISE OLSSON
KOLLER | HENRY | LEE
KOLLER-LEAHY | JUDITH | MARAGRET
KONNO | SUMIKO
KOPPEN | ARNE | MARTIN
KORDA | PETER | EDUARD
KOSTRHON | CLAU | PETER
KOTLIK | ADOLF
KOTLINSKI | ASTRID | MALGORZATA
KRANZ | ANDREA | MIA
KREIENBUEHL | SALOME | SIMEA
KRIEGER | KARINE
KRUSEMAN | PAULINE | WILHELMINE
KU | MICHAEL
KUCZYNSKI | PEDRO | PABLO
KUNG | JENNY | CHIN-PIN
KURAPKA | VICTORIA | JOSEFINA
KUTSUKAKE | ICHIZO
KWAN | KEVIN
KWON | GENE | HYUK
LAATSCH | ARTHUR | KEITH
LAHAM | ELANA
LAI | EDUARDO | FERNANDO
LALOE | ANNE | FLORE JEANNE
LANCASHIRE | ANNE | CHARLOTTE
LAO | EDUARDO
LAPAN | SYDNEY | GARRET
LARKEN | CAROLINE | LUCIA MARIE
LAURIN | SUSANNE | LAKSOV
LAUWERS | KATHLEEN | FRANCOISE
LAW | JOANNE | CATHERINE
LAWFORD | CYNTHIA | EVE
LAWRENCE | JOHN | PATRICK
LE MARIE | EMILY | JEAN
LE ROUX | KAREN | LORALEE
LEE | ANNY
LEE | DER-TSAI
LEE | ESTELLA | KIT SUN
LEE | JANE | SANG MI
LEE | JONHA
LEE | LEONARD | HOWARD KUOHUI
LEE | MEI | KUEI
LEE | NATHANAEL | GLEN YAO RONG
LEE | WALTER
LEFAVE | KRISTIN | ELAN
LEFEBVRE | TANIA | NATHALIE
LEGERER | EVA
LEGGETT | DUDLEY | WILFRED
LEGGIO | EMMANUELE | HYUN
LEI | HAN
LEIBINGER-KAMMUELLER | NICOLE | CAROLYN
LEIJDER | RAIMOND | ROBERT
LEISS JR | WILLIAM | CARL
LEITCH | EMILY | JANE
LEPP | ERICA
LEVIN DUERINGER | ISABEL | SANDRA
LEWIS | MONICA | URSULA
LI | NELLIE
LIANG | CHUAN
LIGHART | JOYCE GWENDOLYN | GWENDOLYN
LILLJEQVIST | ARVID
LIM | ANNETTE | ZHAO YING
LIM | LEONARD | JINWU
LIM | NATASHA | SI MIN
LIN | CHIEN-YU | WILLIAM
LIN | HAI-QING
LIN | HANK
LIN | HOWARD | CHIA-CHING
LIN | SHAWN | HSIN HAN
LINCOLN | RENE | DENISE
LIND | OLIVIA
LINTON | PHOBE | CATHERINE
LISMAY | DIMITRI
LITVAK | DAVID | SACHA
LIU | AN | YUAN
LIU | JOSEPH | CHEN CHUNG
LIU | NATALIE | Y.C.
LIU | TOM | J.
LO | LUKE | SIU FAT
LOCKHART | SUSAN | BARRET
LOGGIE | GLORIA | MARIE
LOU | JING
LOVELL | CARA | FRANCES
LOW | EIELSON | CHIA WEN
LOWELL | NICOLAS
LOWINSKY | DANIEL | JONATHAN
LUEBBE | MARY | ANN
LUEDIN | STEPHANIE | DANA
LUI | QUINN | HOUSTON
LUK | JACQUELINE | OI YEE
LUNDIN | LUKAS | HENRIK
LUNSFORD | GEORGIA | MARGARET
LUPIEN | PASCAL
LUPIS | ALEXIS | DAMIEN DOMINIQUE
LUTHER | KAREN | MAIRE
LUTZ | SONJA
LYNN | HELENE | MARTIN
M PENOT | EDOUARD | BENJAMIN SEBASTIEN
MA | JOY
MACAULAY | SUSAN
MacGERAGHTY | ADRIAN | BISHOP
MACKENZIE | RANDALL | DOUGLAD
MacLEAN | SHIRLEY | BERNICE
MADJELISI | MARISSA | BINTE ALI
MAERKI | MICHAEL | ANDREAS
MAGARIAN | JEANETTE
MAIER | GARY | EUGENE
MAIER | MARTIN
MAK | ALEXANDER
MAK | GREGORY
MAK | SIMON | YUN-SUM
MALATEST | BRANDON | JOHN
MALKA | YUVAL
MANDELKER | BRIAN | MARK
MANGAT | SUSHYANA | KAY
MANN | LAURA | FAYE
MANN | MIKKI
MARCH | SOPHIE | ELIZABETH
MARGOT | ELEONORE | JENNIFER
MARKA | DIANA | ANGELIKA
MARKA | SASKIA | LAURA
MARLOW | JULIA | WATSON
MARSHALL | SARAH
MARTIN | DEBORAH | MARIE
MARTIN | GEOFFREY | HERSH CHENLI
MASSARO | LORETTA
MASSON | ELIZABETH | JANE
MASTERSON | CAROL | ROSANNE
MATSUMOTO | MICHIKO
MATTHEWS | JOSEPH | JAMES DONALD
MAXIMCHUK | KAREN | MEGAN
McALLISTER | MEGAN | DALE
MCBRIDE | ETHAN | LEE
MCCALLUM | DIANE | MARIE
MCCAW | PETER | GRAY
McCONNAUGHEY III | JOHN | STEWART
MCCORKLE | LISA | MARIE
MCDONALD | PETER | DOUGLAS
McINNES | LOUETTE
McINNIS | KERRY | ANN
MCINTOSH | SIGNE
MCKENZIE | ROBERT | GERALD
MCKNIGHT | JOHN | MILLARD
MCLEAN | STEPHANIE | LEE
MCMAHAN | PEGGY | CATHERINE
MEAD | DIANA | COBB
MEHTA | RAJAT
MEHTA | YACHANA
MEIER | DANIEL | JUERG
MEISTER | KLARA
MELA | DAVID | JASON
MELNA | EDWARD | MICHAEL
MENDELSON | DAVID | NATHANIEL
MENDELSON | ERIC | FRANCIS
MENGE | ZOE | CHRISTINE
MENZ | ANDREAS | LEO
MERRITT-GRAY | CORINNE | LOUISE
MEUWISSEN | EDMAR | GERARD JOSEPH
MILLER | ANISTATIA | RENARD
MILLER | ELIZABETH | KOBE
MILLER | JOHN | PEARSE
MILLER-LUEM | SUSAN
MILLIGAN | ROSEMARY | CLAIRE ELIZABETH
MILLNERT | EMILY | ALICE
MILNES | ANNE | SIGRID
MINAMI | KAMUI | ALEXANDER
MING | CONCHITA | CONSUELO
MINNES | ALISON | JOY SHUFF
MINOR | LINDA | MARIE
MINZ | HARRISON | SAMUEL
MINZ | IAN | MATTHEW
MINZ | OLIVER | MAXWELL
MIRGONE | EUGENIA | ALESSANDRA
MISHAL | RANY
MISKIN | GERSHON | JAY
MITCHELL | KAROL | LEE
MOCHKAROV | SERGEY
MOCHKAROVA | LIUDMILA
MOLINA | WALTER | G.
MONIZ | ROGER | JOHN
MONTGOMERY | BRUCE | STUART IRLAM
MONZ | ELLIOT | JULIAN
MOOREN | LORI | ELYSE
MOORES | KYLEE | ANN
MORAIS JR. | PHILIP | DANIEL
MORALES | DAVID | EDWARD
MOREL | HANNA | M.
MORELLE | VIOLAINE | CHANTAL
MOREL-PINERA | MAGDALENA
MORET | KAREN
MORET | SARAH | LAURENCE
MORGENSTERN | ROSALYN
MORRIS | BETHIA | REYNOLDS
MORRIS | GAYLE | ROBYN
MORRIS | RONALD | G.
MORRIS | VALERIE
MOSER | FERDINAND | CHRISTIAN
MULANI | ASHWIN | JACKY
MULFORD | MICHAEL | TIMOTHY
MYRDAL | KAI | OLE
NADARAJAH | RAVISHANKAR
NADOLSKI | TILLMAN
NAEGELE | TANJA | JENNIFER
NAKAGIRI | MAKOTO
NAKAYAMA | ISSEKI
NAMAD | DAVID | ANDREW FREDERIC
NARCISO | LEA | APRIL
NASH | ETHAN | G.
NAULT | DAVID | MICHAEL
NAVID | JACQUELINE | SKOZEK
NEF | TAMARA
NELSON | MITCHELL | CAROL
NEUBACHER | MARIA | CHRISTINA
NEWMAN | JOHN | JAMES
NEWTON | ORTRUD
NG | CATHERINE | KA-YAN
NG | ERIC | PETER
NG | JONATHAN | SHEN-YOU
NG | KENNETH | KA CHUN
NG | KEVIN | KA-YIN
NG | MAN | KAY ERIC
NG | VINCENT | KA FAI
NGU | JESSICA | SHI-LING
NI | HUAIMING
NICOLAS | GREGORY | FRANTZ
NICOLAUS | INGO
NICOLET | JOHANNA | DORTHEA
NICOLET | MARC | AURELE
NIEDERSCHWEIBERER | CHRISTINA | ANGELA
NIEM JR | JOHN
NIEW | MICHELLE
NIGRO | CALOGERO | GUISEPPE FERNANDO
NIHSEN | PETRA
NILSSON | MARIE | CHARLOTTE
NOECKER | JON | HUGO
NORDSTROM | LARS | GUNNAR
NORMAN | FRANK | BLADON
NUNNS | JOAN | M.
NUOTTAMO | NIINA | EMILY
OBERMANN | HELEN
OEHRI | MICHELLE | EVELYN
OHASHI | TOMOHIKO
OHASHI | YUJIN
OLANDER | MARC | ALAIN
OLANDER | PAUL | JAMES
OLIVEIRA | JOSE | AUTO LANCASTER
OLIVER | KATHRYN | CECELIA
ONDINE-HOHMANN | OURS
O'NEILL-PEARCE | KATHERINE
ONG | GAYLA
ONG | SEAN | WEIREN
OONG | ELIZABETH
ORANGES | RICARDO | ALBERTO BARRAZA
ORANGES | SANTIAGO | ERNESTO BARRAZA
ORIET | LEO | PAUL
ORIET | THERESA | ANN
ORNATI-FERNANDEZ | MICHELA
OSTRO | GABRIELLE | FRANKEL
OTT | SHRISTOPH | MATHIAS
OTTERMAN | MICHAEL | JONATHAN
OTTOSSON | EMELIE | ELISABETH
OUTERBRIDGE | AMANDA | NICOLE
OXENHAM | HALEY | LOUISE
PADAR | MONIQUE | CELESTE
PAGE | TEE | MCNEIL
PAHLMAN CARDINI | MARY | ANN
PAINCHAUD | ANDRE | STEPHEN
PAISLEY | DIANE | LYNN
PAPERNICK | IRENE | WENDY
PAREKH | MONA | JAYESH
PARISH | DONALD | ERLE
PARISH | JAMES | ROBERT
PARK | BYUNG | YONG
PARKER | GAIL | EMERY
PARKER | KAREN | YVONNE
PARKER | KARIN
PARKER | STEPHEN
PARLIER | JENNIFER | ELIZABETH
PATTERSON | CHRISTOPHER | MARCH
PAVIA | NADINE
PEARSON | JOHN | HERBERT
PECK | DANIELLE
PEENS | HEIDE
PELLER | MARY | DIANE
PEREIRA | CINDE | MATHIEU
PEREIRA | MARIANA | RIBEIRO
PEREZ | DAVID
PERRIDGE | ROBERT | JOHN
PESACH | MORDECHAI
PETERMANN | THOMAS
PETERSON | ROBERT | GERARD
PETERSON | STEVEN | LAURIE
PFAENDLER | ROGER | LEE
PFOHE | PHILIP | MICHAEL
PHILLIPS | JO-ANNE | ESTELLE
PICARD JR. | JULIO
PIERS | CAROL | ANN
PILATE | PHILIPPE | POL
PIMENTEL | FREDERICK | STEELE
PINCKARD | MATTHEW | JOHN GARETH
PINDEL | EVGENIA | V.
PITT | JOHN | WILLIAM
PLAICE | CAROLINA | LUCIANA
PLUCZENIK | JEANNETTE
POLENSKY | WILLIAM | ANDREW
PONDER | JOHNETTE | LANE
PORTER | JOHN
PORTER | KATHRYN | JANE
PORTER | LINDA | MARGARET
POULTER | MARY | ELIZABETH EGELBERG
PRAHACS | GEORGIA | MARGUERITE
PRIVE | MYRIAM
PRUBANT | MARY | KARLA
PSYCHOYOS | CHRISTINA | MARIE
PYPER | GRAHAM | THOMPSON
QASEM | MOSTAFA | FUAD
QUAH | BRYAN | SU-YANG
QUINN | MICHAEL
QUISTGAARD | JENS
RAIKEN | DAVID | ALEXANDER
RAJASEKARAN | BASKARAN
RAMEL | STIG | OVE GUSTAF
RAMMUNNO | ELSA | RITA
RANDALL | ROBERT | ALAN
RATHIER | CARINE | TATIANA
RAUH | PHILIP
RAYNER | LAUREN | JESSICA HASKELL
REDFERN | NORMAN | FRANCIS
REED JR | GARY | THOMAS
REGAZZONI | CORNELIA | RAMONA
REMICK | JUDITH | PAULA
RHO | MINA
RHONE | STEPHANIE | AUSTIN
RIBBECK | BERTRAM | TOSHIO
RIBERO | MARY | RITA
RICHARDS | DEBORAH | ANN
RICHARDS | JOANNIE | MICHELLE
RICHARDSON-BATSCHELET | SARAH
RILEY | GREGORY | K.
RINALDI | KAREN | ANNE
RINDISBACHER | SARAH
RITTER | CHRISTOPHER | HANS PAUL
RITTER | MARCELLA | ROSE
RITZ | ARIANE | ISABEL
ROBBA | MARK | CHRISTOPHER
ROBBINS | WILLIAM | ALDEN
ROBERTS | JUDY | LYNN
ROBERTS | REGINA | KAY
ROBERTSON | BENJAMIN | FORBES
ROBINSON | LOUISE | JULIA
ROBINSON | PENELOPE | MARY
ROBISON | GERALD | WINFORD
ROCHE | MANFRED | ERWIN
RODGERS | SANDRA | ELLEN
ROGERS | TINA | LYNN
ROKER | KAROL
ROMANN | CLAUDINE | YVONNE
RONEN | TAMAR
ROSE | KAREN | LOUISE
ROSENBAUM | ANNA | MARGARETA
ROSS | JOHN | ROBERT
ROSS | MURAD
ROSSITER | AMY | BURDICK
ROSTAD | FRANK
ROTHUIZEN | ROXANNE | YVONNE
ROTKOWITZ-SIEGAL | SHARON
ROULET | CEDRIC | XAVIER
ROURKE | LESLIE | LEE
ROVELLI | CARLO
ROZIN | MONA
RUBIN | ANNE
RUCKSTUHL | NICOLE | MARGARITE ALBRECHT
RUCKSTUHL | SINAH | TRISHA
RUEGG | NINA | LEE
RUIZ-TAGLE | BENJAMIN
RUIZ-TAGLE | MAXIMILIANO
RUTTY | GARY | BURNS
RUTZ-ROTHACHER | SUSANNE | BARBARA
SABIONCELLO | ANTONIA | MARIA
SAEED | HASHIM | ABDUL
SAHLY | YOUSIF
SALMON | PETER | GORDON
SALMONA | LOGAN | HENRI
SALTER | JOSEPH | DOUGLAS
SALTMARSH | CHRISTOPHER | SIMON
SAMPSON | DIANE | LORRAINE
SANDO-HEALEY | JANET
SANTOSO | ADI
SATHIRATHAI | SANTITARN
SATIADI | LEO | YASMIN
SATO | CANDACE | KAY
SATO | MIKI | HELENA
SAUDAN | JEREMY | TRISTIAN
SAW | MI-UN
SCHAERER | DAMIAN | THOMAS
SCHAUBLIN | DAVID | ROBERT
SCHEIDEGGER | PASCAL | STEVEN
SCHEIN | ZVI
SCHEMMINGER | KLAUS
SCHENNET | RENATE
SCHEU | NINA | TAMARA
SCHLATTER | MIN | JA
SCHNEIDER | AMY | JULIA
SCHNEIDER | PAUL | PHILIP
SCHOENENBERGER | FLORAIN | EMIL
SCHOEPF | THOMAS
SCHOEPPNER | PETER | MICHAEL
SCHONENBERG | CECILIA | ELEONORA
SCHORNO | JORDAN | ALEXANDER
SCHROCK, JR | ARTHUR | CALVIN
SCHURMANN | ROMAN | DAVID
SCHWEGLER | THOMAS | CHARLES
SCHWEIGHOFFER | DORA
SCHWEITZER | JENNIFER | RUTH
SCHWEIZER | THOMAS | SAMUEL
SCHWOB | PHILIP | ROBERT
SCOLLAR | CLAIRE | WIGHTMAN
SCOTT | CONSTANTIN | ELLIOT
SCOTT | ELENA | HANNAH
SEAMAN | ARAN | LEWIS
SEAMON | KENNETH | DOUGLAS
SEE | LANCE
SEHGAL | SEEMA | KAY
SEIDL | ANDREW | ERIC
SEILER | MICHAEL
SEKULIN | ANDREW | JOHN
SEOK | MYUNG | EUN
SERRALLES-ROSSEN | MARIA | MERCEDES
SETLIFF-COHEN | LISA | KATHRYN
SHAH | SHEELA | M.
SHANAA | BIANCA | CLAIRE
SHAW | PATRICK | PHILLIP
SHAY | CAROL | ANNE
SHERWOOD | MEGAN | ELIZABETH
SHIM | TORRANCE | EUGENE
SHIN | MARY
SHIN | SIMON | HYUNSIK
SHIVAS | MARY | ELIZABETH REA
SHRECK | PETER | KURT
SHROUT | STEVEN | EUGENE
SHULMAN | RUTH
SIDDLE | CAROL
SIEBELS | JANE | MARIE
SIEGAL | RONY
SIEGEL | SOPHIE | LARISA
SIGAFOOS | JEFFREY | SCOTT
SILVERMAN | STEPHANIE | JESSICA
SILVERSTEIN | SARAH | ELAINE
SIMMONS-LITTLE | MARGARET | ROSE
SINGAPUR | SURYAPRAKASH
SINGH | ANURADHA | ABHAY
SKANDERA | PETER | RICHARD
SKELTON | PAMELA | JEANNE
SKEMER | TERRENCE | MARK
SKIERKA | RYAN | MADISON
SMALLEY | REMY | MICHAEL
SMITH | ADRIENNE | ERICSON
SMITH | AMAHL
SMITH | BARBARA | ARLETTE
SMITH | CHRISTOPHER | FOLLANSBEE
SMITH | DIONE | FRANCES
SMITH-MEIER | EVELYN | ISABEL
SMITH-TAPPE | GLORIA | JEAN
SNYDER | GEORGE | KELLEY
SOEMARNO | RINI | MARIANI
SOGNESAND | SIGMUND | ANDERS
SONDEREGGER | STEFAN | JOSEF
SONG | DONG | H.
SOOKNANAN | ASHA
SOOKNANAN | CINTRA
SOUZA | KATARZYNA
SPARKS | RUSSELL | SYDNEY
SPENCER | ELIZABETH | CRAWFORD
SPENCER | JASON
SPIER | DENNIS | JOHN
SPIRO | JAY | NILES
SPRINGER-VARGAS-ROCHA | BETTINA | CATHERINE
SPURLING | JANE | YOUNGBLOOD
ST. CYR | DORIS | AFUA OFOSUA
STABELL | BREDO | PETER
STAMATOVA | TZVETA | NIKOLAEVA
STARK | WALTER | PATTERSON
STEEDS | SANDRA | ANN
STEINER | MONIQUE | M.T.
STEINKE | ADEN | JOHN
STEINKE | EVE
STENBECK | CRISTINA | MAYVILLE
STERN | KIM | SUE
STERN-STRAETER | JENS
STERRETT | RUSSELL | WILLIAM
STEVENS | EILEEN | JOY
STEWART-SHORT | LUKE | DAVANT
STOATE | EDWINA | LOUISE SPENCER
STONE-GIRARD | CAROL | ANN
STOREY | ROBERT
STORRER ZINNER | MARKUS | ANDREAS
STORTON | SHARON | MARY
STRONG | HELEN | PATRICIA
STRUCK | BRETT | EUGENE
STRUTT | DANIEL | JOSEPH
STUCKY | BRENT | MICHAEL
STUYT | NYNKE | CHRISTINE MARIE
SUH | MINCHUNG
SURENDRA | SYNTHIA | DIETZ
SUSILO | VINNY | VANIA
SUZUKI | MASANOBU
SWAIN | HANNAH | REBECCA
SWATERS | CLIFFORD
SWATS | ERIC | NICHOLAS
SWIFT-FLATZ | JENNIFER
SZEPIENIEC | JESSE | MARTIN
TA'EED | CYAN | CLAIRE
TAHAR | ARCANDRA
TAKACS | SHARON | LEE
TAKAHASHI | KYOKO
TAMME | LINDA | JAY
TAN | BRYAN
TAN | FLORA | CHUNXIU
TAN | JOSHUA
TANG | GRACE | KUEI-CHUN
TANG | HO | YEN
TANG | TONY | CHIH TSUNG
TANNER | CORINNE | DANIA
TAUCHER | ALICE | MAE
TAY | SULIAN | M.
TAYLOR | BEN | LEWIS
TAYLOR | CAROL | ANN
TAYLOR | GEORGIA | ANN
TAYLOR | JUDITH | ALICE
TAYLOR | MICHAEL | JAMES FARDON
TAYLOR | SUZANNE
TEGNER | RICHARD | YNGVE ESAIAS
TEO | KAI | EN
TEO | SOO | KIAT
THEIS | CONTESSINA | MARIA
THEUX | CAROLINE | AIMEE LOWEN
THISTLETHWAITE | RICHARD | NICHOLAS
THOMAS | EVAN | HENRY
THOMPSON | OLIVIA | PAIGE
THORGERD-HENSEL | DOMINIQUE | THOMAS
THULIN | HANS | ERIK MARCUS WILLIAM
TIELMANN | BETTINA | ARIANE
TILLEY | KAREN | LOUISE
TIMMERMANS | LAURA | TARIKA
TING | GREGORY | KIN WING
TINKOV | OLEG
TOMASSI | KRISTEN | KYLE
TONG | CATHERINE | KER CHIEN
TONG | KAM | SHEK PETER
TONG WONG | SABRINA | Y.M.
TOPPLE | SHANNON | DAYLE
TORO | ELIZABETH | TARYN
TOUTAIN | ALEXANDRA | SYLVIE KATHRYN
TOUZET | CAROLE | CLAUDE
TOWART | LACHLAN
TOYNE | BENJAMIN | JOHN
TRAN | RANDY | EDDIE
TREMBLAY | PIERRE | PHILIPPE
TSAI | FENDI | JAH-LIN
TSCHARLAND | JULIE | ANNE
TSU | BETTY
TSUKAHARA | AMY
TUNGAA | TUMENDEMBEREL
TWITCHELL | GUY | HOWARD
TYLER | SUSAN | ANNE
ULLRICH | RAYMOND | ANDRE
ULSAKER | TATE | GRAN
UNG | PECK | HOUY
UPSHALL | KATHRYN
VACHON | JAMIE | MICHAEL
VALENTINE | ERIC | SCOTT
VALENZUELA | MANUEL | O.
VAN DAM | CHRISTIAN | FRANCIS ANTOINE
VAN DE WEGHE | CHRISTA | MARIA
VAN DER LEE | DOROTHY | ELAINE
VAN DER VEEN | PETER | ALBERT
VAN DER WAAL | HAROLD | CORNELIS
VAN HASSELT | JANET | MIYON
van OVERBEEK | PETER
VARAN | BRICE | KENNDEY
VARDA | ROBERT | ANTHONY
VARGA | STEPHANIE | LAURA
VASSAR | THEODORA | ELINOR
VAVPETIC | VASJA
VELDEN | SABINE | VAN DER
VENABLES | JOHN | ANTHONY
VITACCO | MARGOT
VITALY | BARBARA | JOAN
VITELLI | ALESSANDRO
VON GOETZ | MAXIMILIAN
VON LANDSBERG-VELEN | CAROLINE | MARIA ELISBETH
VON MALAPERT-NEUFVILLE | PHILIP | GEORG
VON MALAPERT-NEUFVILLE-REITER | SUSANNE | ELLEN
WADA | SHOHEI | ENDERLE
WAGNER | JOHN | CHARLES
WAHL | MAUREEN | CLAUDE
WALKER | DANVILLE | ANTHONY LUDLOW
WALL | JUDITH | ANNE
WALL | MEGAN | LEAH
WALLACE | ERIK | XOBIAK
WALLACE | KENDRA | ANN
WALSH | MICHAEL | JOHN
WALTERS | JACQUELINE | EVA
WALTHER | MARTEN
WALWORTH | CLARE | ALEXANDRA
WANG | DAVID
WANG | JIMMY | BOY
WANG | YOUPING
WATSON | JILL | MARIE
WATTERS | KATHARINE | DUNCAN
WEBB | CYNTHIA | INGRID
WEBER | KATHRYN | LYNN
WEIJDEGARD | KERSTIN | ULRIKA
WELCKER | ALEXANDER | COLE
WELCKER | KIRBY | ELISE
WELLS | JENNIE | LOUISE
WELSH | VERED | BARBARA
WESTERN | GLEN | KENNETH
WESTMAN | EVA | ISABELLA
WESTON | DONNA | JOHNSON
WESTON | JAKE | RONNEBERG
WEXLER | BARBARA | RUTH
WEXLER-LAYTON | NATHAN | HARRIS
WHITE | STEPHEN | BROADHURST
WHITEHURST | JOEL | DAVID
WHITELAW | ALAN | SCOTT
WHITFIELD | PETER | MARSHALL
WHITLOCK | FRANCESCA | MARGARET ROSAMOND
WHITLOCK | LOUISA | CLARE ANNABEL
WHITMONT | STEPHANIE | POWERS
WICK | DARRELL | ARNE
WICKI | SARAH | PATRICIA QUAIL
WIDE | ANN | KATRIN TIISMANN
WILARAS | WINTEN | OEI
WILDEMAN | WENDY | ROCHELLE
WILLIAMS | JACOB | EDMUND
WILLIAMS | POLLYANN | SARAH
WILLIAMS | SHAWN | ANTHONY
WILSON | CAITLIN | SUMMER
WINIUS | JOANNES | JACOBUS EDILBERTUS
WINWOOD | ELIZABETH | DAWN
WINWOOD | STEPHEN | CALHOUN CRAFTON
WITMER | RICHARD | LYNN
WITTE | MONA | P.
WLODARCZK | PATRICK | ROY
WONG | BENNY
WONG | JUSTIN
WONG | KELLY | LAN YUH
WONG | MUN | KEAT AGNES
WOO | ELLIOTT | TAK ON
WOOD | VANESSA | JANE
WOOLRIDGE | KAREN | LAUROLEA
WRAY | MARISA | DANIELE
WU | PIHUA
WUERMLI | PAUL | GEORG
WURSTBAUER | DENISIA | A.
WYATT | PEGGY | ANN
YABROFF | RUTH | SARA
YAMAMOTO | MASAYUKI | NELSON
YANG | LINDA | HEUN
YANG | YAN
YAP | ISABELLE | THERESE GOTIANUN
YAP JR | JOSEPH | PATRICK GOTIANUN
YEH | ANDREW | JER-LIANG
YEH | CHENG | SHENG
YEOUM | CAROL
YEUNG | AGNES | PUI LAN
YEUNG | DOUGLAS | SHINGTACK
YEUNG | MARCUS | EUGENE KWOK WO
YEW | CHRISTINE
YEW | DALLAS
YIN | YUXIN | PETER
YIP | INA | YUI
YONEMASU | TOMOKO | KIM
YOUNG | AMY | HANNAH ELIZABETH
YU | GENE
YU | KASUM | CARSON
YU | WAI | WAI CATHERINE
YUEN | JUNE
YUN | JOY | YOUNG
ZAININGER | KARL-AUGUSTIN
ZAMZAM | HADIF | ABDULLA
ZARAGOZA | ENRIQUE
ZEIDY | SUZANNE
ZELLER-MOUATTA | NADINE
ZHANG | HUI | REN
ZHANG | XI
ZHANG | XIAOLING
ZHENG | KYLE
ZHONG | LELE
ZHOU | QUAN
ZUBOR | HEDVIG | ELEONORA MICHAELSDOTTER
ZUCKER | SUSAN

Dated: April 17, 2017.
Maureen Manieri,
Manager Classification Team 82413, Examinations Operations—Philadelphia Compliance Services.

[FR Doc. 2017-09475 Filed 5-9-17; 8:45 am]

BILLING CODE 4830-01-P